DEPARTMENT OF HOUSING AND URBAN DEVELOPMENT

[Docket No. FR-4909-N-12]

Notice of Proposed Information Collection for Public Comment: The Voucher Homeownership Survey

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: February 28, 2005.

ADDRESSES: Interested persons are invited to submit comments regarding this proposal. Comments should refer to the proposal by name and/or OMB Control number and should be sent to: Reports Liaison Officer, Office of Policy Development and Research, Department of Housing and Urban Development, 451 7th Street, SW., Room 8226, Washington, DC 20410-5000.

FOR FURTHER INFORMATION CONTACT: Marina L. Myhre, (202) 708-3700, extension 5705 (this is not a toll-free number), for copies of the proposed forms and other available documents.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology (e.g., permitting electronic submission of responses).

This notice also lists the following information:

Title of Proposal: Voucher Homeownership Survey.

Description of the need for the information and proposed use: This request is for the clearance of a survey instrument designed to provide a broad, statistically accurate picture of the program and how it operates nationwide. This survey would be based on a sample of 350 PHAs that have implemented the Voucher Homeownership Program. The purpose of the survey is to: (1) Provide an accurate, but general, picture of the program's implementation nationwide and (2) help the Department identify the operational characteristics that contribute to the success of a voucher homeownership program and use the resulting detailed analysis of those operational characteristics to further improve the program.

Estimation of the total number of hours needed to prepare the information collection including number of respondents, frequency of response, and hours of response: 350 PHAs will be surveyed. Average time to complete the survey is 60 minutes. Respondents will only be contacted once. Total burden hours are 350.

Status of the proposed information collection: Pending OMB approval.

Authority: Section 3506 of the Paperwork Reduction Act of 1995, 44 U.S.C. Chapter 35, as amended.

Dated: December 20, 2004
Dennis C. Shea,
Assistant Secretary for Policy Development and Research.

[FR Doc. 04-28281 Filed 12-27-04; 8:45 am]

BILLING CODE 4210-62-M